NUCLEAR REGULATORY COMMISSION

10 CFR Part 73

[NRC-2010-0340; NRC-2009-0163]

RIN 3150-AI64

Physical Protection of Shipments of Irradiated Reactor Fuel

AGENCY: Nuclear Regulatory Commission.

ACTION: NUREG; issuance.

SUMMARY: The U.S. Nuclear Regulatory Commission (NRC) is issuing Revision 2 of NUREG-0561, “Physical Protection of Shipments of Irradiated Reactor Fuel.” This revised document sets forth means, methods, and procedures that the NRC staff considers acceptable for satisfying the requirements for the physical protection of spent nuclear fuel (SNF) during transportation by road, rail, and water; and for satisfying the requirements for background investigations of individuals granted unescorted access to SNF during transportation.

DATES: Revision 2 of NUREG-0561 is effective on August 19, 2013.

ADDRESSES: Please refer to Docket ID NRC-2010-0340 when contacting the NRC about the availability of information regarding this document. You may access information related to this document, which the NRC possesses and is publicly available, using any of the following methods:

• Federal Rulemaking Web site: Go to http://www.regulations.gov and search for Docket ID NRC-2010-0340. Address questions about NRC dockets to Carol Gallagher; telephone: 301-492-3668; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession number for Revision 2 of NUREG-0561 is ML13120A230.

• NRC's PDR: You may examine and purchase copies of public documents at the NRC's PDR, Room O1-F21, One White Flint North, 11555 Rockville Pike, Rockville, Maryland 20852.

• NRC's Public Web site: Go to http://www.nrc.gov/reading-rm/doc-collections/ and search for NUREG-0561 under “NUREG-Series Publications.”

The NRC's NUREGs are not copyrighted, and NRC approval is not required to reproduce them.

FOR FURTHER INFORMATION CONTACT: R. Clyde Ragland, Office of Nuclear Security and Incident Response, U.S. Nuclear Regulatory Commission, Washington, DC 20555-0001; telephone: 301-415-7008; or email: Clyde.Ragland@nrc.gov.

SUPPLEMENTARY INFORMATION: The NRC published a final rule in the Federal Register on May 20, 2013 (78 FR 29519) (RIN 3150-AI64), that amended its security regulations for the transport of irradiated reactor fuel at § 73.37 of Title 10 of the Code of Federal Regulations (10 CFR), “Requirements for Physical Protection of Irradiated Reactor Fuel in Transit,” and added a new § 73.38, “Personnel Access Authorization Requirements for Irradiated Reactor Fuel in Transit.” The final rule will be effective on August 19, 2013. Documents related to the final rule can be found at http://www.regulations.gov by searching on Docket ID NRC-2009-0163.

Guidance to a licensee or applicant for implementation of §§ 73.37 and 73.38 is provided in Revision 2 of NUREG-0561. This NUREG is intended for use by applicants, licensees, and NRC staff. Specifically, NUREG-0561 describes methods acceptable to the NRC staff for implementing the requirements in §§ 73.37 and 73.38. Methods and solutions different from those described in the document are acceptable if they meet the requirements in §§ 73.37 and 73.38, as applicable.

Draft Revision 2 of NUREG-0561 was made available for public comment on November 3, 2010 (75 FR 67636). The NRC received comments from eight commenters during the comment period. Two of the commenters requested extensions to the comment period and one supported the proposed rule and the revisions to the NUREG. The other five commenters requested clarification and/or changes, but the requested clarifications/changes related to the proposed rule, not the NUREG. Those comments requesting changes to the rule language were also submitted during the proposed rule comment period and were addressed in the final rule.

Dated at Rockville, Maryland, this 20th day of May, 2013.
For the Nuclear Regulatory Commission.
Michael E. Rodriguez,
Acting Chief, Fuel Cycle and Transportation Security Branch, Division of Security Policy, Office of Nuclear Security and Incident Response.

[FR Doc. 2013-12600 Filed 5-24-13; 8:45 am]

BILLING CODE 7590-01-P